NUCLEAR REGULATORY COMMISSION

Advisory Committee on the Medical Uses of Isotopes: Meeting Notice

AGENCY: Nuclear Regulatory Commission.

ACTION: Notice of meeting.

SUMMARY: The U.S. Nuclear Regulatory Commission (NRC) will convene a teleconference meeting of the Advisory Committee on the Medical Uses of Isotopes (ACMUI) on October 17, 2019, to discuss the draft report of the ACMUI Training and Experience Subcommittee. This report will include the subcommittee's comments and recommendations on its review of the NRC staff's evaluation of the training and experience requirements for radiopharmaceuticals under title 10 Code of Federal Regulations (10 CFR) 35.300, “Use of unsealed byproduct material for which a written directive is required.” Meeting information, including a copy of the agenda and handouts, will be available at https://www.nrc.gov/reading-rm/doc-collections/acmui/meetings/2019.html on or about October 2, 2019. The agenda and handouts may also be obtained by contacting Ms. Kellee Jamerson using the information below.

DATES: The teleconference meeting will be held on Thursday, October 17, 2019, 2:00 p.m. to 4:00 p.m. Eastern Time.

FOR FURTHER INFORMATION CONTACT: Any member of the public who wishes to participate in the teleconference meeting should contact Ms. Jamerson using the contact information below: Kellee Jamerson, email: Kellee.Jamerson@nrc.gov, telephone: (301) 415-7408.

SUPPLEMENTARY INFORMATION:

Conduct of the Meeting

Dr. Darlene Metter, ACMUI Chairman, will preside over the meeting. Dr. Metter will conduct the meeting in a manner that will facilitate the orderly conduct of business. The following procedures apply to public participation in the meeting:

1. Persons who wish to provide a written statement should submit an electronic copy to Ms. Jamerson at the contact information listed above. All submittals must be received by October 11, 2019, three business days prior to the October 17, 2019, meeting and must pertain to the topic on the agenda for the meeting.

2. Questions and comments from members of the public will be permitted during the meeting at the discretion of the Chairman.

3. The draft transcript and meeting summary will be available on ACMUI's website https://www.nrc.gov/reading-rm/doc-collections/acmui/meetings/2019.html on or about December 2, 2019.

This meeting will be held in accordance with the Atomic Energy Act of 1954, as amended (primarily Section 161a); the Federal Advisory Committee Act (5 U.S.C. App); and the Commission's regulations in 10 CFR part 7.

Dated: September 19, 2019.
Russell E. Chazell,
Federal Advisory Committee Management Officer.

Subject: Federal Register Notice: Advisory Committee on the Medical Uses of Isotopes Meeting Notice. Dated September 19, 2019.

ADAMS ML19261C009
OFC | MSST/MSEB | MSST/MSEB | MSST/MSEB | SECY
NAME | KJamerson | LDimmick * | CEinberg * | RChazell.
DATE | 9/18/2019 | 9/18/2019 | 9/18/2019 | 9/ /2019.
*via email.

Official Record Copy

[FR Doc. 2019-20612 Filed 9-23-19; 8:45 am]

BILLING CODE 7590-01-P